DEPARTMENT OF HEALTH AND HUMAN SERVICES

Food and Drug Administration

21 CFR Part 880

General Hospital and Personal Use Devices

CFR Correction

In Title 21 of the Code of Federal Regulations, parts 800 to 1299, revised as of April 1, 2006, on page 410, in § 880.5950, paragraph (b) is corrected to read as follows:

§ 880.5950 Umbilical occlusion device.

* * * * *

(b) Classification. Class I (general controls). The device is exempt from the premarket notification procedures in subpart E of part 807 of this chapter, subject to the limitations in § 880.9.

[FR Doc. 06-55527 Filed 9-11-06; 8:45 am]

BILLING CODE 1505-01-D